DEPARTMENT OF AGRICULTURE

Food and Nutrition Service

National Advisory Council on Maternal, Infant and Fetal Nutrition: Notice of Meeting

AGENCY: Food and Nutrition Service, USDA.

ACTION: Notice of meeting.

SUMMARY: Pursuant to the Federal Advisory Committee Act, section 1, et seq., 5 U.S.C. App., this notice announces a meeting of the National Advisory Council on Maternal, Infant and Fetal Nutrition.

DATES: Date and Time: July 19-21, 2011; 9 a.m.-5:30 p.m.

Place: The meeting will be held at the Food and Nutrition Service, 3101 Park Center Drive, Room 204 A & B, Alexandria, VA 22302.

SUPPLEMENTARY INFORMATION: The National Advisory Council on Maternal, Infant, and Fetal Nutrition will meet to continue its study of the Special Supplemental Nutrition Program for Women, Infants and Children (WIC), and the Commodity Supplemental Food Program (CFSP). The agenda will include updates and a discussion of WIC Reauthorization, Breastfeeding Promotion, the new WIC food packages, WIC funding, Electronic Benefits Transfer, CSFP Farm Bill provisions, and current research studies.

Status: Meetings of the National Advisory Council on Maternal, Infant and Fetal Nutrition are open to the public. Members of the public may participate, as time permits. Members of the public may file written statements with the contact person named below before or after the meeting.

FOR FURTHER INFORMATION CONTACT: Debra Whitford, Supplemental Food Programs Division, Food and Nutrition Service, Department of Agriculture, (703) 305-2746. If members of the public need special accommodations, please notify Anita Cunningham by July 13, 2011, at (703) 305-0986, or e-mail at Anita.Cunningham@fns.usda.gov.

Dated: June 21, 2011.
Audrey Rowe,
Administrator.

[FR Doc. 2011-16287 Filed 6-28-11; 8:45 am]

BILLING CODE 3410-30-P